DEPARTMENT OF AGRICULTURE

Food and Nutrition Service

Agency Information Collection Activities: Proposed Collection; Comment Request—Food Stamp Program—Store Applications, Form FNS-252, Food Stamp Application for Stores

AGENCY: Food and Nutrition Service, USDA.

ACTION: Notice and request for comments.

SUMMARY: USDA's Food and Nutrition Service (FNS) has revised its Food Stamp Program Application for Stores, Form FNS-252, the application for retailers who wish to participate in the Food Stamp Program. The form was revised to simplify and streamline information collected from retailers on the application and make it easier to read. We are soliciting public comments on the content, format and design of the revised Form FNS-252. For consistency purposes, we will not use the revised Form-252 until the new Store Tracking and Redemption Subsystem (STARS) is in operation, around the third quarter of 2004. The current Form FNS-252 will be effective until the STARS system is operational and we are ready to use the revised Form FNS-252. In addition, FNS is drafting an addendum to the revised Form FNS-252. Corporations (chain stores) will use the addendum to submit information to FNS that is unique to each store under the corporation. The addendum will not collect new types of information other than those collected on the revised Form FNS-252.

DATES: Written comments must be submitted on or before March 3, 2003.

ADDRESSES: Comments are invited on the content, format and design of the revised Form FNS-252, Food Stamp Program Application for Stores, and the proposed addendum to this form. Comments may be sent to Karen Walker, Chief, Retailer Management Branch, Benefit Redemption Division, Food and Nutrition Service, U.S. Department of Agriculture, 3101 Park Center Drive, Room 404, Alexandria, VA 22302; FAX number (703) 305-1863; E-mail: BRDHQ-WEB@fns.usda.gov. All submitted comments should refer to the title of this proposal and/or the OMB approval number.

FOR FURTHER INFORMATION CONTACT: Requests for additional information, or copies of the revised Form FNS-252, should be directed to Karen Walker at (703) 305-2418 or BRDHQ-WEB@fns.usda.gov. Requests submitted over e-mail should refer to the title of this proposal and/or the OMB approval number in the subject line.

SUPPLEMENTARY INFORMATION: Title: Food Stamp Program: Food Stamp Program Application for Stores, Form FNS-252.

OMB Number: 0584-0008.

Expiration Date: May 31, 2003.

Type of Request: Revision of a currently approved collection.

Abstract: Section 9 of the Food Stamp Act of 1977, as amended, (7 U.S.C. 2011 et seq.) requires retail food stores to submit applications to FNS for approval prior to participating in the Food Stamp Program. FNS field offices review retailer applications to ensure that the store is eligible and then authorize or deny a store to accept and redeem Food Stamp Program benefits. We know that many retailers submit incomplete or erroneous applications to the field office. This can be attributed, in part, to the complexity and length of the current form and the technical language used. It is our belief that a simpler application will result in fewer mistakes upfront and will reduce the time it takes for a field office to process an incomplete or incorrect application. Retailers will also benefit from the simplified, revised Form FNS-252 because they will better understand what information is being asked of them initially. Therefore, it is more likely that retailers will submit a complete application the first time.

As part of this effort, reengineering teams at FNS were charged with identifying areas where the current Form FNS-252 could be improved to reduce and streamline information collected on the application. Additionally, field offices provided their feedback on how the current Form FNS-252 can be improved. Based on these recommendations, FNS contracted with the Office of Personnel Management's Forms Processing Center in Macon, Georgia to revise the current Form FNS-252 into a customer- and computer-friendly format.

The revised Form FNS-252 offers a significant improvement over the current Form FNS-252 while adhering to the regulatory requirements for the authorization process for retailers. The design of the revised Form FNS-252 is superior over the current Form FNS-252 because it can be scanned and easily converted into an online application in the future. Additionally, the language on the revised Form FNS-252 is clearer and shorter which should result in fewer errors and omissions on incoming applications. In summary, the revised Form FNS-252:

• Utilizes plain language;

• Deletes redundant questions and questions that solicit information which can be collected from other FNS sources such as store visits and databases;

• Improves the accuracy of submitted information through better targeted questions; and

• Supports the Department's efforts to comply with the E-GOV requirements by making the form compatible with current technology.

Finally, FNS is in the process of developing an addendum to the revised Form FNS-252. The addendum will not collect new types of information other than those collected on the revised Form FNS-252. A corporation operating chain stores will use the addendum to submit specific information to FNS on each store, such as the store's location and hours of operation. The new STARS system will be able to accept both electronic and paper submissions of the addendum.

Burden Estimates: The burden associated with the revised Form FNS-252 is determined from information available in the STARS database on initial authorizations and reauthorizations. For the burden associated with initial authorizations, we have used Fiscal Year (FY) 2001 data as the base number for FY 2002 estimates for all newly authorized applicants. Based on current economic conditions, we believe this number will increase or remain constant for the present year. We will use 18,888 as the base number for FY 2002 for all newly authorized stores. We have further increased this number by 3% (566) to account for applications that are processed by field offices but are not authorized, and decreased this number by 9.8% (1,851) to account for chain stores that participate in the Food Stamp Program. A corporation operating chain stores will only need to complete one revised Form FNS-252 for all of its stores and the (shorter) addendum for each individual store. Thus, the total number of initial applications expected to be received and processed for FY 2002 is estimated to be 17,603 (18,888 + 566—1,851). We further estimate that ninety-eight percent (17,251) of the 17,603 applications will be submitted using the Form FNS-252. The remaining applications will be submitted on another form such as the Form FNS-252-2, Meal Service Application.

For burden estimates associated with applications for reauthorization, we have used FY 2001 data as the base number for FY 2002 estimates because we do not anticipate any radical variation in the number of stores to be reauthorized for the current year. Program regulations require that participating stores be reauthorized at least every five years. Of the stores to be reauthorized, only 3% will have to complete a new Form FNS-252 due to recent procedural changes. Stores that do not complete a new Form FNS-252 are reauthorized using information available from other FNS sources such as the store visit form. Of the 151,716 stores that were authorized in FY 2001, approximately 20,938 were subject to reauthorization. Therefore, for FY 2002, we estimate the number of stores to be reauthorized that will use the Form FNS-252 to be 628 (3% of 20,938). It is important to note that corporations, and the stores under the corporation, are not included in reauthorization estimates because they are usually exempt from completing additional paperwork after the corporation has been authorized.

The hourly burden rate per response for the current Form FNS-252, as approved by OMB, is 20 to 68 minutes, with the average being 27 minutes. Hourly burden time per response varies and includes the time to review instructions, search existing data resources, gather and copy records, complete and review the application and submit the form and documentation to FNS. We estimate the burden rate per response for the revised Form FNS-252 to be an average of 19 minutes (.32 hour)—an estimated, average reduction of 8 minutes over the current Form FNS-252. Our estimates are based on projections that included in formal time studies conducted at FNS by staff who were not involved in the redesign efforts of the form or who are not familiar with the retailer application process. We estimate the burden rate per response for the addendum to the revised Form FNS-252 to be an average of 5 minutes (.08 hour). Because corporations account for 9.8 percent of all authorized stores, more than 1,851 chain stores will benefit from completing the shorter addendum to the revised Form FNS-252, on an annual basis.

As noted above, we will evaluate the revised Form FNS-252 on the appropriateness and clarity of the form's content, format and design. Before making final changes to the revised Form FNS-252, we will consider feedback from the public. If the results of the evaluation are positive, we will finalize the revised Form FNS-252 and the addendum to this form. We will begin using both forms when the new STARS system is operational; we will use the current Form FNS-252 during the interim period, until we are ready to use the revised Form FNS-252.

The estimated burden computation is provided below:

New Authorizations—17,251 (17,603 × 98%); Reauthorizations—628 (20,938 × 3%);

Total Responses = 17,879 (17,251 + 628)

We estimate the annual burden hours to be 5,721 hours for the revised Form FNS-252. The computation is provided below:

Estimated Total Annual Burden:

FNS-252: 5,721 (17,879 × .32 hour).

Total Annual Hours: 5,721.

Affected Public: Retail food stores.

Estimated Number of Respondents: 17,879.

Estimated Annual Number of Responses Per Respondent: 1.

Estimated Total Annual Responses: 17,879.

Estimate of Burden: 5,721.

Estimated Total Annual Burden: 5,721.

We estimate the annual burden hours to be 148 hours for the addendum to the revised Form FNS-252. The computation is provided below:

Estimated Total Annual Burden:

Addendum to Revised FNS-252: 148 (1,851 × .08 hour).

Total Annual Hours: 148.

Affected Public: Retail food stores under a corporation.

Estimated Number of Respondents: 1,851.

Estimated Annual Number of Responses Per Respondent: 1.

Estimated Total Annual Responses: 1,851

Estimate of Burden: 148.

Estimated Total Annual Burden: 148.

Dated: December 18, 2002.
Roberto Salazar,
Administrator, Food and Nutrition Service.

[FR Doc. 02-33112 Filed 12-31-02; 8:45 am]

BILLING CODE 3410-30-P